DEPARTMENT OF ENERGY

Federal Energy Regulatory Commission

[Project No. 2266-096]

Nevada Irrigation District; Notice of Intent To File License Application, Filing of Pre-Application Document, Commencement of Licensing Proceeding and Scoping; Request for Comments on the Pad and Scoping Document, and Identification of Issues and Associated Study Requests

June 10, 2008.

a. Type of Filing: Notice of Intent to File License Application for a New License and Commencing Licensing Proceeding.

b. Project No.: 2266-096.

c. Dated Filed: April 11, 2008.

d. Submitted By: Nevada Irrigation District.

e. Name of Project: Yuba-Bear Project.

f. Location: The Yuba-Bear Project is located on the west slope of the Sierra Nevada on the Middle Yuba River, Canyon Creek, Fall Creek, Rucker Creek and Bear River, in Nevada, Placer and Sierra counties, California. A large portion of the project is located on the Tahoe National Forest. Some of the project is located on federally-owned land managed by the Bureau of Land Management as part of the Sierra Resource Management Area.

The project consists of four developments—Bowman, Dutch Flat, Chicago Park, and Rollins—which, in total, include: 13 main dams with a combined gross storage capacity of 207,865 acre-feet of water; four water conduits; five diversion dams; four powerhouses with a combined installed capacity of 79.32 megawatts; one 9.0-mile-long, 60-kilovolt transmission line; and appurtenant facilities and structures, including recreation facilities.

g. Filed Pursuant to: 18 CFR Part 5 of the Commission's Regulations.

h. Applicant Contact: Ron Nelson, General Manager, Nevada Irrigation District, 1036 West Main Street, Grass Valley, CA 95945, (530) 271-6824 or e-mail nelson@nid.dst.ca.us.

i. FERC Contact: John Mudre at 202-502-8902 or e-mail john.mudre@ferc.gov.

j. We are asking federal, state, local, and tribal agencies with jurisdiction and/or special expertise with respect to environmental issues to cooperate with us in the preparation of the environmental document. Agencies who would like to request cooperating status should follow the instructions for filing comments described in paragraph o below. Cooperating agencies should note the Commission's policy that agencies that cooperate in the preparation of the environmental document cannot also intervene. See, 94 FERC ¶ 61,076 (2001).

k. With this notice, we are initiating informal consultation with: (a) The U.S. Fish and Wildlife Service and/or NOAA Fisheries under section 7 of the Endangered Species Act and the joint agency regulations thereunder at 50 CFR, Part 402 and (b) the State Historic Preservation Officer, as required by section 106, National Historical Preservation Act, and the implementing regulations of the Advisory Council on Historic Preservation at 36 CFR 800.2.

l. With this notice, we are designating Nevada Irrigation District as the Commission's non-federal representative for carrying out informal consultation, pursuant to section 7 of the Endangered Species Act and section 106 of the National Historic Preservation Act.

m. Nevada Irrigation District filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659. A copy is also available for inspection and reproduction at the address in paragraph h.

Register online at http://ferc.gov/esubscribenow.htm to be notified via e-mail of new filing and issuances related to this or other pending projects. For assistance, contact FERC Online Support.

o. With this notice, we are soliciting comments on the PAD and Scoping Document 1 (SD1), as well as study requests. All comments on the PAD and SD1, and study requests should be sent to the address above in paragraph h. In addition, all comments on the PAD and SD1, study requests, requests for cooperating agency status, and all communications to and from Commission staff related to the merits of the potential application (original and eight copies) must be filed with the Commission at the following address: Kimberly D. Bose, Secretary, Federal Energy Regulatory Commission, 888 First Street, NE., Washington, DC 20426. All filings with the Commission must include on the first page, the project name (Yuba-Bear Project) and number (P-2266-096), and bear the heading “Comments on Pre-Application Document,” “Study Requests,” “Comments on Scoping Document 1,” “Request for Cooperating Agency Status,” or “Communications to and from Commission Staff.” Any individual or entity interested in submitting study requests, commenting on the PAD or SD1, and any agency requesting cooperating status must do so by August 11, 2008.

Comments on the PAD and SD1, study requests, requests for cooperating agency status, and other permissible forms of communications with the Commission may be filed electronically via the Internet in lieu of paper. The Commission strongly encourages electronic filings. See 18 CF 385.2001(a)(1)(iii) and the instructions on the Commission's Web site (http://www.ferc.gov) under the “e-filing” link.

p. Our intent is to prepare an Environmental Impact Statement (EIS) for which the planned meetings will satisfy the NEPA scoping requirements. We anticipate preparing a multi-project EIS that would also consider the proposed relicensing of Pacific Gas & Electric Company's Drum-Spaulding Hydroelectric Project (FERC No. 2310-173) and Rollins Transmission Line Project (FERC No. 2784-003). Because these three projects are located in the same watersheds and have the same license expiration dates, NID and PG&E have decided, to the extent practical, to cooperate and coordinate on their relicensing efforts. The scoping meetings and site visits discussed below will address all three projects.

Scoping Meetings

Commission staff will hold two scoping meetings in the vicinity of the project at the times and places noted below. The daytime meeting will focus on resource agency, Indian tribes, and non-governmental organization concerns, while the evening meeting is primarily for receiving input from the public. We invite all interested individuals, organizations, and agencies to attend one or both of the meetings, and to assist staff in identifying particular study needs, as well as the scope of environmental issues to be addressed in the environmental document. The times and locations of these meetings are as follows:

Daytime Scoping Meeting

Date and Time: Tuesday, June 24, 2008, 9 a.m.

Location: Auburn Holiday Inn Hotel, 120 Grass Valley Highway, Auburn, CA.

Evening Scoping Meeting

Date and Time: Tuesday, June 24, 2008, 7 p.m.

Location: Gold Miners Inn Holiday Inn Express Hotel, 121 Bank Street, Grass Valley, CA.

Scoping Document 1 (SD1), which outlines the subject areas to be addressed in the environmental document, was mailed to the individuals and entities on the Commission's mailing list on May 22, 2008. Copies of SD1 will be available at the scoping meetings, or may be viewed on the web at http://www.ferc.gov, using the “eLibrary” link. Follow the directions for accessing information in paragraph n. Based on all oral and written comments, a Scoping Document 2 (SD2) may be issued. SD2 may include a revised process plan and schedule, as well as the list of issues identified through the scoping process.

Site Visit

The licensees and Commission staff will visit the project facilities on Tuesday, June 17, Wednesday, June 18, and Thursday, June 19, 2008, starting at 8 a.m. and ending at or about 5 a.m. Participants should meet by the start time as follows: (1) On June 17at the Discovery Trail in Bear Valley; (2) on June 18 at the Alta Service Center; and (3) on June 19 at Halsey Forebay. Participants are responsible for their own transportation; four-wheel-drive vehicles are recommended. Anyone interested in attending the site visit should contact Mr. James Lynch at (916) 564-4214.

Meeting Objectives

At the scoping meetings, staff will: (1) Initiate scoping of the issues; (2) review and discuss existing conditions and resource management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss the appropriateness of any federal or state agency or Indian tribe acting as a cooperating agency for development of an environmental document.

Meeting participants should come prepared to discuss their issues and/or concerns. Please review the PAD in preparation for the scoping meetings. Directions on how to obtain a copy of the PAD and SD1 are included in item n. of this document.

Meeting Procedures

The meetings will be recorded by a stenographer and will become part of the formal record of the Commission proceeding on the project.

Kimberly D. Bose,
Secretary.

[FR Doc. E8-13537 Filed 6-16-08; 8:45 am]

BILLING CODE 6717-01-P